DEPARTMENT OF THE TREASURY

Internal Revenue Service

Open Meeting of Citizen Advocacy Panel, Midwest District

AGENCY: Internal Revenue Service (IRS), Treasury.

ACTION: Notice.

SUMMARY: An open meeting of the Midwest Citizen Advocacy Panel will be held in Dubuque, IA.

DATES: The meeting will be held Thursday, March 23, 2000 and Friday, March 24, 2000.

FOR FURTHER INFORMATION CONTACT: Sandra McQuin at 1-888-912-1227, or 414-297-1604.

SUPPLEMENTARY INFORMATION: Notice is hereby given pursuant to section 10(a)(2) of the Federal Advisory Committee Act, 5 U.S.C. App. (1988) that an open meeting of the Citizen Advocacy Panel (CAP) will be held Thursday, March 23, 2000, from 1:00 p.m. to 4:00 p.m. and Friday, March 24, 2000, from 9:00 a.m. to 12:00 p.m. at Holiday Inn Dubuque Five Flags, Goodtime Meeting Room, 450 Main Street, Dubuque, IA 52001. The Citizen Advocacy Panel is soliciting public comment, ideas, and suggestions on improving customer service at the Internal Revenue Service. The public is invited to make oral comments at the CAP town hall meeting on Thursday March 23, 7:00 p.m. to 9:00 p.m. at Loras College, Marie Graber Ballroom, Alumni Campus Center, 1450 Alta Vista, Dubuque, IA 52004. Written comments will be read into the record. Individual comments will be limited to five minutes and an additional five minutes allotted for questions and answers. If you would like to have the CAP consider a written statement or pre-register to make an oral comment, please call the CAP office at 1-888-912-1227 or 414-297-1604, FAX (414) 297-1623, or mail to Citizen Advocacy Panel, Mail Stop 1006-MIL, 310 West Wisconsin Ave, Milwaukee, Wisconsin 53203-2221. If you would like to pre-register for the meeting, the only information needed by the CAP office is number of attendees and zip code.

The Agenda will include the following: Presentation of performance measures, reports by the CAP sub-groups, presentation of taxpayer issues by individual members, CAP office report, and discussion of issues.

Note: Last minute changes to the agenda are possible and could prevent effective advance notice.

Dated: February 25, 2000.
John J. Mannion,
Program Manager, TAS.

[FR Doc. 00-5251 Filed 3-2-00; 8:45 am]

BILLING CODE 4830-01-U